DEPARTMENT OF HEALTH AND HUMAN SERVICES

Centers for Disease Control and Prevention

[30Day-21-0909]

Agency Forms Undergoing Paperwork Reduction Act Review

In accordance with the Paperwork Reduction Act of 1995, the Centers for Disease Control and Prevention (CDC) has submitted the information collection request titled CDC Diabetes Prevention Recognition Program (DPRP) to the Office of Management and Budget (OMB) for review and approval. CDC previously published a “Proposed Data Collection Submitted for Public Comment and Recommendations” notice on June 15, 2020, to obtain comments from the public and affected agencies. CDC received 30 unique sets of public comments. Within the 30 sets of comments, there were 126 questions/comments answered by CDC. This notice serves to allow an additional 30 days for public and affected agency comments.

CDC will accept all comments for this proposed information collection project. The Office of Management and Budget is particularly interested in comments that:

(a) Evaluate whether the proposed collection of information is necessary for the proper performance of the functions of the agency, including whether the information will have practical utility;

(b) Evaluate the accuracy of the agencies estimate of the burden of the proposed collection of information, including the validity of the methodology and assumptions used;

(c) Enhance the quality, utility, and clarity of the information to be collected;

(d) Minimize the burden of the collection of information on those who are to respond, including, through the use of appropriate automated, electronic, mechanical, or other technological collection techniques or other forms of information technology, e.g., permitting electronic submission of responses; and

(e) Assess information collection costs.

To request additional information on the proposed project or to obtain a copy of the information collection plan and instruments, call (404) 639-7570. Comments and recommendations for the proposed information collection should be sent within 30 days of publication of this notice to www.reginfo.gov/public/do/PRAMain. Find this particular information collection by selecting “Currently under 30-day Review—Open for Public Comments” or by using the search function. Direct written comments and/or suggestions regarding the items contained in this notice to the Attention: CDC Desk Officer, Office of Management and Budget, 725 17th Street NW, Washington, DC 20503 or by fax to (202) 395-5806. Provide written comments within 30 days of notice publication.

Proposed Project

CDC Diabetes Prevention Recognition Program (DPRP) (OMB Control No. 0920-0909, Exp. 02/28/2021)—Revision—National Center for Chronic Disease Prevention and Health Promotion (NCCDPHP), Centers for Disease Control and Prevention (CDC).

Background and Brief Description

CDC's Division of Diabetes Translation (DDT) established and administers the National Diabetes Prevention Program's (National DPP) Diabetes Prevention Recognition Program (DPRP), which recognizes organizations that deliver diabetes prevention programs according to evidence-based requirements set forth in the `Centers for Disease Control and Prevention Diabetes Prevention Recognition Program Standards and Operating Procedures' (DPRP Standards). Additionally, the Centers for Medicare and Medicaid Services (CMS) Medicare Diabetes Prevention Program (MDPP) expansion of CDC's National DPP was announced in early 2016, when the Secretary of Health and Human Services determined that the Diabetes Prevention Program met the statutory criteria for inclusion in Medicare's expanded list of healthcare services for beneficiaries (https://innovation.cms.gov/initiatives/medicare-diabetes-prevention-program/). This is the first time a preventive service model from the CMS Innovation (CMMI) Center has been expanded. After extensive testing of the DPP model in 17 sites across the U.S. in 2014-2016, CMS proposed the MDPP in Sections 1102 and 1871 of the Social Security Act (42 U.S.C. 1302 and 1395hh § 424.59), authorizing CDC-recognized organizations to prepare for enrollment as MDPP suppliers beginning in January 2018 in order to bill CMS for these services. Only organizations in good standing with the CDC DPRP are eligible as MDPP suppliers. CDC continues to work with CMS to support the MDPP.

CDC requests an additional three years of OMB approval to continue collecting the information needed to administer the DPRP and information needed by CMS to support the MDPP benefit. Based on experience with the DPRP from 2011-2020, including data analysis, and feedback from applicant organizations and internal and external partners, CDC plans to revise the DPRP Standards and the associated information collection.

Key changes are a direct result of DPRP data analyses and discussion with National DPP stakeholders, including those serving vulnerable populations. Key changes allow for the optional collection of Hemoglobin A1C levels, and for weight/physical activity minutes to be combined (a new method), to determine Full recognition; the required collection of Application Delivery Mode questions; revised organizational type information; program enrollment motivation/enrollment source information; adding Gender; and the removal of Session ID. Three data elements have been minimally revised and no other data elements have been added to the one-time application form; and, three have been revised, one has been deleted, and four have been added to the evaluation data elements, as per below:

Application Form

(1) Delivery Mode- follow-up questions (revised)

(2) Class Type (revised)

(3) Organization Type (revised)

Evaluation Data Elements

(4) Enrollment Motivation (new)

(5) Enrollment Source (revised)

(6) Session ID (deleted)

(7) HBA1C Value (new)

(8) Participant's Gender (new)

During the period of this Revision, CDC estimates receipt of approximately 300 DPRP application forms per year. The estimated burden per one-time, up-front application response is one hour. CDC further estimates receipt of semi-annual evaluation data (two hours at each submission) from the new 300 organizations per year plus existing organizations who also submit semi-annual evaluation data. The total estimated average annualized evaluation burden to respondents is 8,700 hours. This includes an estimate of the time needed to extract and compile the required data records and fields from an existing electronic database, review the data, create or enter a data file in the required format (i.e., CSV file), and submit the data file via the National DPP website for upload into the DPRP Data Portal. The estimated burden per response is modest since the information requested for DPRP recognition is routinely collected by most organizations that deliver lifestyle change programs for their own internal evaluation and possible insurance reimbursement purposes, including Medicare under the MDPP benefit. Participation in the DPRP is voluntary, data are de-identified, no Personally Identifiable Information (PII) is collected by CDC, and there are no costs to respondents other than their time. CDC is requesting a three-year approval.

Estimated Annualized Burden Hours
Type of respondents | Form name | Number of respondents | Number of responses per respondent | Average burden per response (in hours)
Public sector organizations that deliver type 2 diabetes prevention programs | DPRP Application Form DPRP Evaluation Data | 90 630 | 1 2 | 1 2
Private sector organizations that deliver type 2 diabetes prevention programs | DPRP Application Form DPRP Evaluation Data | 210 1470 | 1 2 | 1 2

Jeffrey M. Zirger,
Lead, Information Collection Review Office, Office of Scientific Integrity, Office of Science, Centers for Disease Control and Prevention.

[FR Doc. 2021-01915 Filed 1-27-21; 8:45 am]

BILLING CODE 4163-18-P